DEPARTMENT OF TRANSPORTATION

Surface Transportation Board

[STB Ex Parte No. 552 (Sub-No. 4)]

Railroad Revenue Adequacy—1999 Determination

AGENCY: Surface Transportation Board.

ACTION: Notice of decision.

SUMMARY: On July 26, 2000, the Board served a decision announcing the 1999 revenue adequacy determinations for the Nation's Class I railroads. One carrier (Grand Trunk Western Railroad Inc.) is found to be revenue adequate.

EFFECTIVE DATE: This decision is effective July 26, 2000.

FOR FURTHER INFORMATION CONTACT: Leonard J. Blistein, (202) 565-1529. [TDD for the hearing impaired: (202) 565-1695.]

SUPPLEMENTARY INFORMATION: The Board is required to make an annual determination of railroad revenue adequacy. A railroad will be considered revenue adequate under 49 U.S.C. 10704(a) if it achieves a rate of return on net investment equal to at least the current cost of capital for the railroad industry for 1999, determined to be 10.8% in Railroad Cost of Capital—1999, STB Ex Parte No. 558 (Sub-No. 3) (STB served June 12, 2000). In this proceeding, the Board applied the revenue adequacy standards to each Class I railroad, and it found one carrier, Grand Trunk Western Railroad Inc., to be revenue adequate.

Additional information is contained in the Board's formal decision. To purchase a copy of the full decision, write to, call, or pick up in person from: Da-To-Da Office Solutions, Room 405, 1925 K Street, N.W., Washington, DC 20423. Telephone: (202) 466-5530. [Assistance for the hearing impaired is available through TDD services (202) 565-1695.] The decision is also available on the Board's internet site, www.stb.dot.gov.

Environmental and Energy Considerations

This action will not significantly affect either the quality of the human environment or the conservation of energy resources.

Regulatory Flexibility Analysis

Pursuant to 5 U.S.C. 603(b), we conclude that our action in this proceeding will not have a significant economic impact on a substantial number of small entities. The purpose and effect of the action is merely to update the annual railroad industry revenue adequacy finding. No new reporting or other regulatory requirements are imposed, directly or indirectly, on small entities.

Decided: July 19, 2000.
By the Board, Chairman Morgan, Vice Chairman Burkes, and Commissioner Clyburn.
Vernon A. Williams,
Secretary.

[FR Doc. 00-18881 Filed 7-25-00; 8:45 am]

BILLING CODE 4915-00-P